GOVERNMENT PRINTING OFFICE

Depository Library Council to the Public Printer; Meeting

The Depository Library Council to the Public Printer (DLC) will meet on Sunday, April 6, 2003, through Wednesday, April 9, 2003, in Reno, Nevada. The sessions will take place from 1 p.m. until 4 p.m. and 7 p.m. to 10 p.m. on Sunday, 8:30 a.m. until 5 p.m. on Monday and Tuesday and from 8:30 a.m. until 3:30 p.m. on Wednesday. The meeting will be held at the Peppermill Hotel, 2707 South Virginia Street, Reno, Nevada. The purpose of this meeting is to discuss the Federal Depository Library Program. All sessions are open to the public.

A limited number of rooms are being held for Council attendees at the rate of $55 (plus tax). The rate for a Friday and/or Saturday night stay is $79 (plus tax). Reservations can be made by dialing toll free, 1-800-282-2444 or the hotel directly at (775) 826-2121. The rate is good for the meeting dates as well as the three (3) days prior to the meeting and the three (3) days after the meeting. To receive the Government rate, you must make your reservation no later than March 14, 2003 and mention the U.S. Government Printing Office or the Depository Library Council meeting. After that date, rooms will be subject to availability at the best obtainable rate.

Bruce R. James,
Public Printer.

[FR Doc. 03-5431 Filed 3-6-03; 8:45 am]

BILLING CODE 1520-01-P